DEPARTMENT OF COMMERCE

Office of the Secretary

Estimates of the Voting Age Population for 2012

AGENCY: Office of the Secretary, Commerce.

ACTION: General notice announcing population estimates.

SUMMARY: This notice announces the voting age population estimates as of July 1, 2012, for each state and the District of Columbia. We are providing this notice in accordance with the 1976 amendment to the Federal Election Campaign Act, Title 2, United States Code, Section 441a(e).

FOR FURTHER INFORMATION CONTACT: Enrique Lamas, Acting Chief, Population Division, U.S. Census Bureau, Room HQ-5H174, Washington, DC 20233, at 301-763-2071.

SUPPLEMENTARY INFORMATION: Under the requirements of the 1976 amendment to the Federal Election Campaign Act, Title 2, United States Code, Section 441a(e), I hereby give notice that the estimates of the voting age population for July 1, 2012, for each state and the District of Columbia are as shown in the following table.

Estimates of the Population of Voting Age for Each State and the District of Columbia: July 1, 2012
Area | Population 18 and over | Area | Population 18 and over
United States | 240,185,952
Alabama | 3,697,617
Alaska | 544,349
Arizona | 4,932,361
Arkansas | 2,238,250
California | 28,801,211
Colorado | 3,956,224
Connecticut | 2,796,789
Delaware | 712,042
District of Columbia | 522,843
Florida | 15,315,088
Georgia | 7,429,820
Hawaii | 1,089,302
Idaho | 1,169,075
Illinois | 9,811,190
Indiana | 4,945,857
Iowa | 2,351,233
Kansas | 2,161,601
Kentucky | 3,362,177
Louisiana | 3,484,090
Maine | 1,063,274
Maryland | 4,540,763
Massachusetts | 5,244,729
Michigan | 7,616,490
Minnesota | 4,102,991
Mississippi | 2,239,593
Missouri | 4,618,513
Montana | 783,161
Nebraska | 1,392,120
Nevada | 2,095,348
New Hampshire | 1,045,878
New Jersey | 6,838,206
New Mexico | 1,571,096
New York | 15,307,107
North Carolina | 7,465,545
North Dakota | 545,020
Ohio | 8,880,551
Oklahoma | 2,877,457
Oregon | 3,038,729
Pennsylvania | 10,024,150
Rhode Island | 833,818
South Carolina | 3,643,633
South Dakota | 629,185
Tennessee | 4,962,227
Texas | 19,073,564
Utah | 1,967,315
Vermont | 502,060
Virginia | 6,329,130
Washington | 5,312,045
West Virginia | 1,471,372
Wisconsin | 4,408,841
Wyoming | 440,922
Source: U.S. Census Bureau, Population Division.

I have certified these counts to the Federal Election Commission.

Dated: January 18, 2013.
Rebecca M. Blank,
Acting Secretary, U.S. Department of Commerce.

[FR Doc. 2013-02004 Filed 1-29-13; 8:45 am]

BILLING CODE 3510-07-P